DEPARTMENT OF ENERGY

Federal Energy Regulatory Commission

[Docket No. EL00-111-000]

Cities of Anaheim, Azusa, Banning, Colton, and Riverside, California v. California Independent System Operator Corporation; Notice of Filing

September 18, 2000.

Take notice that on September 15, 2000, the Cities of Anaheim, Azusa, Banning, Colton, and Riverside, California (Southern Cities), tendered for filing a Complaint against the California Independent System Operator Corporation (ISO). The Southern Cities' Complaint asserts: (1) That the ISO's currently effective mechanism for recovering costs it incurs for Out-of-Market (OOM) dispatch calls is unjust and unreasonable in violation of the Federal Power Act, and (2) that the ISO has violated its Tariff by charging for Neutrality Adjustment Charges in excess of the limit on such charges in effect from June 1, 2000 through September 15, 2000. The Southern Cities urges the Commission: (1) To issue an order requiring the ISO to change § 11.2.4.2.1 of the ISO Tariff to provide that OOM costs incurred by the ISO to meet underscheduled loads will be recovered from the Scheduling Coordinators that have underscheduled, and (2) to issue an order requiring the ISO to abide by the cap on Neutrality Adjustment Charges in § 11.2.9.1 of the ISO Tariff, which became effective on June 1, 2000, and to refund Neutrality Adjustment Charges in excess of that cap collected for trading intervals subsequent to that date.

Any person desiring to be heard or to protest such filing should file a motion to intervene or protest with the Federal Energy Regulatory Commission, 888 First Street, N.E., Washington, D.C. 20426, in accordance with Rules 211 and 214 of the Commission's Rules of Practice and Procedure (18 CFR 385.211 and 285.214). All such motions and protests should be filed on or before September 25, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Answers to the complaint shall also be due on or before September 25, 2000.

David P. Boergers,
Secretary.

[FR Doc. 00-24394 Filed 9-21-00; 8:45 am]

BILLING CODE 6717-01-M